DEPARTMENT OF ENERGY

Federal Energy Regulatory Commission

Combined Notice of Filings #1

Take notice that the Commission received the following electric corporate filings:

Docket Numbers: EC12-68-000.

Applicants: Stephentown Regulation Services LLC.

Description: Application of Stephentown Regulation Services LLC.

Filed Date: 2/9/12.

Accession Number: 20120209-5173.

Comments Due: 5 p.m. ET 3/1/12.

Docket Numbers: EC12-69-000.

Applicants: American Electric Power Service Corporation, Appalachian Power Company, Wheeling Power Company.

Description: Application for Authorization to Transfer Jurisdiction Under Section 203 of the Federal Power Act of American Electric Power Service Corporation.

Filed Date: 2/10/12.

Accession Number: 20120210-5050.

Comments Due: 5 p.m. ET 3/27/12.

Docket Numbers: EC12-70-000.

Applicants: American Electric Power Service Corporation, Appalachian Power Company, Kentucky Power Company, AEP Generation Resources Inc.

Description: Application for Authorization to Transfer Jurisdiction Under Section 203 of the Federal Power Act of American Electric Power Service Corporation.

Filed Date: 2/10/12.

Accession Number: 20120210-5053.

Comments Due: 5 p.m. ET 3/27/12.

Docket Numbers: EC12-71-000.

Applicants: Ohio Power Company, American Electric Power Service Corporation, AEP Generation Resources Inc.

Description: Application for Authorization to Transfer Jurisdictional Assets Under Section 203 of the Federal Power Act of American Electric Power Service Corporation.

Filed Date: 2/10/12.

Accession Number: 20120210-5059.

Comments Due: 5 p.m. ET 3/12/12.

Take notice that the Commission received the following electric rate filings:

Docket Numbers: ER11-3084-002; ER11-3097-002, ER10-1212-001; ER10-1277-001; ER10-1211-001; ER10-1188-001; ER10-1186-001; ER10-1187-001; ER11-2954-002; ER11-4626-001.

Applicants: The Detroit Edison Company, DTE Energy Trading, Inc. DTE River Rouge No.1, LLC, DTE East China, LLC, DTE Pontiac North, LLC, DTE Stoneman, LLC, DTE Energy Supply, LLC, Woodland Biomass Power Ltd., Mt. Poso Generation Company, LLC, DTE Calvert City, LLC.

Description: Notice of Change in Status of The Detroit Edison Company, et. al.

Filed Date: 2/9/12.

Accession Number: 20120209-5172.

Comments Due: 5 p.m. ET 3/1/12.

Docket Numbers: ER12-645-002.

Applicants: California Ridge Wind Energy LLC.

Description: Second Supplement to Market-Based Rate Application to be effective 2/20/2012.

Filed Date: 2/10/12.

Accession Number: 20120210-5047.

Comments Due: 5 p.m. ET 3/2/12.

Docket Numbers: ER12-1038-000.

Applicants: Perrin Ranch Wind, LLC.

Description: Perrin Ranch Wind, LLC Amendment to MBR Application to be effective 1/1/2012.

Filed Date: 2/9/12.

Accession Number: 20120209-5098.

Comments Due: 5 p.m. ET 3/1/12.

Docket Numbers: ER12-1039-000.

Applicants: The Empire District Electric Company.

Description: The Empire District Electric Company submits tariff filing per 35.13(a)(2)(iii: GFR Template Detail Attachment D to be effective 1/1/2012.

Filed Date: 2/10/12.

Accession Number: 20120210-5002.

Comments Due: 5 p.m. ET 3/2/12.

Docket Numbers: ER12-1040-000.

Applicants: Wisconsin Electric Power Company.

Description: Wisconsin Electric Power Company submits Notice of Termination of Electric Rate Schedule No. 117.

Filed Date: 2/9/12.

Accession Number: 20120209-5178.

Comments Due: 5 p.m. ET 3/1/12.

Docket Numbers: ER12-1041-000.

Applicants: AEP Generation Resources Inc.

Description: AEP Generation Resources Inc. submits tariff filing per 35.12: SSO Filing to be effective 12/31/9998.

Filed Date: 2/10/12.

Accession Number: 20120210-5030.

Comments Due: 5 p.m. ET 3/12/12.

Docket Numbers: ER12-1042-000.

Applicants: Appalachian Power Company, Indiana Michigan Power Company, Kentucky Power Company, AEP Generation Resources Inc., Ohio Power Company.

Description: Appalachian Power Company submits tariff filing per 35.13(a)(2)(iii: 20120210 2 Power Sharing and Bridge Agreement APCo to be effective 12/31/9998.

Filed Date: 2/10/12.

Accession Number: 20120210-5032.

Comments Due: 5 p.m. ET 3/12/12.

Docket Numbers: ER12-1043-000.

Applicants: Kentucky Power Company.

Description: 20120210 3 Power Sharing and Bridge Agreement KPCo to be effective 12/31/9998.

Filed Date: 2/10/12.

Accession Number: 20120210-5034.

Comments Due: 5 p.m. ET 3/12/12.

Docket Numbers: ER12-1044-000.

Applicants: Indiana Michigan Power Company.

Description: 20120210 4 Power Sharing and Bridge Agreement IM to be effective 12/31/9998.

Filed Date: 2/10/12.

Accession Number: 20120210-5036.

Comments Due: 5 p.m. ET 3/12/12.

Docket Numbers: ER12-1045-000.

Applicants: AEP Generation Resources Inc.

Description: 20120210 5 Bridge Agreement AEP Gen to be effective 12/31/9998.

Filed Date: 2/10/12.

Accession Number: 20120210-5037.

Comments Due: 5 p.m. ET 3/12/12.

Docket Numbers: ER12-1046-000.

Applicants: Ohio Power Company.

Description: 20120210 6 Bridge Agreement OPCo to be effective 12/31/9998.

Filed Date: 2/10/12.

Accession Number: 20120210-5038.

Comments Due: 5 p.m. ET 3/12/12.

Docket Numbers: ER12-1047-000.

Applicants: Appalachian Power Company, Kentucky Power Company, AEP Generation Resources Inc.

Description: 20120210 7 Sporn Mitchell APCo to be effective 12/31/9998.

Filed Date: 2/10/12.

Accession Number: 20120210-5040.

Comments Due: 5 p.m. ET 3/27/12.

Docket Numbers: ER12-1048-000.

Applicants: Kentucky Power Company.

Description: 20120210 8 Mitchell KPCo to be effective 12/31/9998.

Filed Date: 2/10/12.

Accession Number: 20120210-5041.

Comments Due: 5 p.m. ET 3/27/12.

Docket Numbers: ER12-1049-000.

Applicants: AEP Generation Resources Inc.

Description: 20120210 9 Sporn AEP Gen to be effective 12/31/9998.

Filed Date: 2/10/12.

Accession Number: 20120210-5042.

Comments Due: 5 p.m. ET 3/27/12.

Docket Numbers: ER12-1050-000.

Applicants: Midwest Independent Transmission System, Wolverine Power Supply Cooperative, Inc.

Description: Wolverine-Tower Kleber WDS to be effective 2/11/2012.

Filed Date: 2/10/12.

Accession Number: 20120210-5056.

Comments Due: 5 p.m. ET 3/2/12.

Docket Numbers: ER12-1051-000.

Applicants: Midwest Independent Transmission System, Wolverine Power Supply Cooperative, Inc.

Description: Wolverine IAs (2417 & 2418) to be effective 4/12/2012.

Filed Date: 2/10/12.

Accession Number: 20120210-5057.

Comments Due: 5 p.m. ET 3/2/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 10, 2012.
Nathaniel J. Davis, Sr.,
Deputy Secretary.

[FR Doc. 2012-4024 Filed 2-21-12; 8:45 am]

BILLING CODE 6717-01-P